COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: December 29, 2024.

ADDRESSES: Committee for Purchase From People Who Are Blind or Severely Disabled, 355 E Street SW, Suite 325, Washington, DC 20024.

FOR FURTHER INFORMATION CONTACT: For further information or to submit comments contact: Mike Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

8405-01-540-2346—Blouse, Working, NWU, Navy, Men's, Digital Camouflage, X Small, X, Short

8405-01-540-2349—Blouse, Working, NWU, Navy, Men's, Digital Camouflage, X Small, Short

8405-01-540-2354—Blouse, Working, NWU, Navy, Men's, Digital Camouflage, X Small, Regular

8405-01-540-2359—Blouse, Working, NWU, Navy, Men's, Digital Camouflage, X Small, Long

8405-01-540-2363—Blouse, Working, NWU, Navy, Men's, Digital Camouflage, Small, XX Short

8405-01-540-2365—Blouse, Working, NWU, Navy, Men's, Digital Camouflage, Small, X Short

8405-01-540-2369—Blouse, Working, NWU, Navy, Men's, Digital Camouflage, Small, Short

8405-01-540-2374—Blouse, Working, NWU, Navy, Men's, Digital Camouflage, Small, Regular

8405-01-540-2376—Blouse, Working, NWU, Navy, Men's, Digital Camouflage, Small, Long

8405-01-540-2379—Blouse, Working, NWU, Navy, Men's, Digital Camouflage, Small, X Long

8405-01-540-2381—Blouse, Working, NWU, Navy, Men's, Digital Camouflage, Medium, XX Short

8405-01-540-2389—Blouse, Working, NWU, Navy, Men's, Digital Camouflage, Medium, X Short

8405-01-540-2419—Blouse, Working, NWU, Navy, Men's, Digital Camouflage, Medium, Short

8405-01-540-2423—Blouse, Working, NWU, Navy, Men's, Digital Camouflage, Medium, Regular

8405-01-540-2436—Blouse, Working, NWU, Navy, Men's, Digital Camouflage, Medium, Long

8405-01-540-2438—Blouse, Working, NWU, Navy, Men's, Digital Camouflage, Medium, X Long

8405-01-540-2441—Blouse, Working, NWU, Navy, Men's, Digital Camouflage, Medium, XX Long

8405-01-540-2442—Blouse, Working, NWU, Navy, Men's, Digital Camouflage, Large, X Short

8405-01-540-2446—Blouse, Working, NWU, Navy, Men's, Digital Camouflage, Large, Short

8405-01-540-2447—Blouse, Working, NWU, Navy, Men's, Digital Camouflage, Large, Regular

8405-01-540-2449—Blouse, Working, NWU, Navy, Men's, Digital Camouflage, Large, Long

8405-01-540-2452—Blouse, Working, NWU, Navy, Men's, Digital Camouflage, Large, X Long

8405-01-540-2453—Blouse, Working, NWU, Navy, Men's, Digital Camouflage, Large, XX Long

8405-01-540-2456—Blouse, Working, NWU, Navy, Men's, Digital Camouflage, X Large, Short

8405-01-540-2458—Blouse, Working, NWU, Navy, Men's, Digital Camouflage, X Large, Regular

8405-01-540-2463—Blouse, Working, NWU, Navy, Men's, Digital Camouflage, X Large, Long

8405-01-540-2467—Blouse, Working, NWU, Navy, Men's, Digital Camouflage, X Large, X Long

8405-01-540-2468—Blouse, Working, NWU, Navy, Men's, Digital Camouflage, X Large, XX Long

8405-01-540-2470—Blouse, Working, NWU, Navy, Men's, Digital Camouflage, XX Large, Regular

8405-01-540-2472—Blouse, Working, NWU, Navy, Men's, Digital Camouflage, XX Large, Long

8405-01-540-2475—Blouse, Working, NWU, Navy, Men's, Digital Camouflage, XX Large, X Long

8405-01-540-2478—Blouse, Working, NWU, Navy, Men's, Digital Camouflage, XX Large, XX Long

8405-01-540-2455—Blouse, Working, NWU, Navy, Women's, Digital Camouflage, 42 Short

8405-01-540-2482—Blouse, Working, NWU, Navy, Women's, Digital Camouflage, 32 X Short

8405-01-540-2484—Blouse, Working, NWU, Navy, Women's, Digital Camouflage, 32 Short

8405-01-540-2486—Blouse, Working, NWU, Navy, Women's, Digital Camouflage, 35 X Short

8405-01-540-2590—Blouse, Working, NWU, Navy, Women's, Digital Camouflage, 35 Short

8405-01-540-2714—Blouse, Working, NWU, Navy, Women's, Digital Camouflage, 35 Regular

8405-01-540-2716—Blouse, Working, NWU, Navy, Women's, Digital Camouflage, 39 X Short

8405-01-540-2718—Blouse, Working, NWU, Navy, Women's, Digital Camouflage, 39 Short

8405-01-540-2719—Blouse, Working, NWU, Navy, Women's, Digital Camouflage, 32 Regular

8405-01-540-3015—Blouse, Working, NWU, Navy, Women's, Digital Camouflage, 43 Regular

Authorized Source of Supply: Blind Industries & Services of Maryland, Baltimore, MD

Contracting Activity: DLA TROOP SUPPORT, PHILADELPHIA, PA

NSN(s)—Product Name(s):

8465-01-521-7815—Load Lifter Attachment Strap, MOLLE Components, Woodland Camouflage

Contracting Activity: DLA TROOP SUPPORT, PHILADELPHIA, PA

NSN(s)—Product Name(s):

8470-01-599-0789—Retention Assembly, X-Back (D-ring), Foliage Green, XSM

8470-01-599-0791—Retention Assembly, X-Back (D-ring), Foliage Green, SM/MED

8470-01-599-0793—Retention Assembly, X-Back (D-ring), Foliage Green, LG/XLG

8470-01-599-0794—Retention Assembly, X-Back (D-ring), Foliage Green, XXLG

Authorized Source of Supply: San Antonio Lighthouse for the Blind, San Antonio, TX

Contracting Activity: W6QK ACC-APG NATICK, NATICK, MA

Service(s)

Service Type: Administrative & Courier Services

Mandatory for: Office of the Undersecretary of Defense (A&S)/Defense Pricing and Contracting (OUSD(A&S)/DPC), Suffolk Building (including The Pentagon & Mark Center), 5611 Columbia Pike, Falls Church, VA

Authorized Source of Supply: Anchor Mental Health Association, Washington, DC

Contracting Activity: WASHINGTON HEADQUARTERS SERVICES (WHS), WASHINGTON HEADQUARTERS SERVICES

Service Type: Centralized Appointment Call Center

Mandatory for: U.S. Air Force, Medical Treatment Facility, 308 West D Avenue, Eglin Air Force Base, FL

Authorized Source of Supply: Bobby Dodd Institute, Inc., Atlanta, GA

Contracting Activity: DEPT OF THE AIR FORCE, FA2823 AFTC PZIO

Michael R. Jurkowski,
Director, Business Operations.

[FR Doc. 2024-28066 Filed 11-27-24; 8:45 am]

BILLING CODE 6353-01-P